DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, 14th and Constitution Avenue NW, Room 2104, Washington, D.C. 20230. Applications may be examined between 8:30 A.M. and 5:00 P.M. in Room 2104.

Docket Number: 07-036. Applicant: Methodist Hospitals of Dallas, d/b/a Methodist Health System, 1441 N. Beckley Avenue, Dallas, TX 75203. Instrument: Mass Spectrometer, Model H-7650. Manufacturer: Hitachi High Technologies, Japan. Intended Use: The instrument is intended to be used for clinical research and teaching in nephrology. The microscope is essential to conduct renal biopsies for the research. It will also be used to enable multiple students to simultaneously visualize the outcomes of the biopsies. Application accepted by Commissioner of Customs: June 8, 2007.

Docket Number: 07-037. Applicant: Regents of the University of California, Los Angeles, 570 Westwood Plaza Building 114, MC 722710, Los Angeles, CA 90095-7227. Instrument: Electron Microscope, Model Tecnai G2 F20. Manufacturer: FEI Company, The Netherlands. Intended Use: The instrument is intended to be used in a multi-user facility for a wide range of TEM research activities which will significantly enhance the inter-disciplinary research profile. It will advance state-of-the-art structural studies of a wide range of nano-devices, biological nanomachines and cellular assemblies. These activities have the potential for a profound impact on our understanding of several fundamental processes in biology, on determining the mechanisms of action of nanobiological machines, and on the development of novel nano-devices. Application accepted by Commissioner of Customs: June 7, 2007.

Docket Number: 07-038. Applicant: Regents of the University of California, Los Angeles, 570 Westwood Plaza Building 114, MC 722710, Los Angeles, CA 90095-7227. Instrument: Electron Microscope, Model FP 5600/XX Titan Krios cryo-EM. Manufacturer: FEI Company, The Netherlands. Intended Use: The instrument is intended to be used in a multi-user facility for a wide range of TEM research activities which will significantly enhance the inter-disciplinary research profile. It will advance state-of-the-art structural studies of a wide range of nano-devices, biological nanomachines and cellular assemblies. These activities have the potential for a profound impact on our understanding of several fundamental processes in biology, on determining the mechanisms of action of nanobiological machines, and on the development of novel nano-devices. It will also provide high-resolution data pushing the limit of cryoEM reconstruction to near atomic resolution for biological research. Application accepted by Commissioner of Customs: June 7, 2007.

Docket Number: 07-039. Applicant: Regents of the University of California, Los Angeles, 570 Westwood Plaza Building 114, MC 722710, Los Angeles, CA 90095-7227. Instrument: Electron Microscope, Model FP 5600/30 Titan 80-300 S/TEM. Manufacturer: FEI Company, The Netherlands. Intended Use: The instrument is intended to be used in a multi-user facility for a wide range of TEM research activities which will significantly enhance the inter-disciplinary research profile. It will advance state-of-the-art structural studies of a wide range of nano-devices, biological nanomachines and cellular assemblies. These activities have the potential for a profound impact on our understanding of fundamental processes in determining the structural properties of various materials. Application accepted by Commissioner of Customs: June 7, 2007.

Docket Number: 07-033. Applicant: Stanford University, Varian Physics Bldg., Room 218, 382 Via Pueblo Mall, Stanford, CA 94305. Instrument: Amplified Ultrafast Laser System. Manufacturer: Thales Laser, France. Intended Use: The instrument is intended to be used to study the quantum mechanical properties of matter by performing coherent control experiments. Genetic algorithms will be used to control molecular dynamics in molecules as big as proteins and as small as carbon dioxide by optimizing either absorption in proteins or fragmentation of smaller molecules. The laser system will generate light of different colors in a non-collinear optical parametric amplifier. The laser system used must be very reliable, with a clean mode and capability of generating reproducible high powers on a daily basis with very little noise or operator intervention. Application accepted by Commissioner of Customs: June 18, 2007.

Docket Number: 07-043. Applicant: Scripps Research Institute, 10550 North Torrey Pines Road, La Jolla, CA 92037. Instrument: Electron Microscope, Model Technai G2 Spirit TWIN. Manufacturer: FEI Company, Czech Republic. Intended Use: The instrument is intended to be used for structural investigations of biological macromolecular assemblies in structures such as molecular motors, COPII coated vesicles, the HIV capsid assembly, the chloroplast ribosome, etc. Application accepted by Commissioner of Customs: June 18, 2007.

Docket Number: 07-044. Applicant: Johns Hopkins University, 3400 North Charles Street, Dunning Hall 102, Baltimore, MD 21218. Instrument: Electron Microscope, Model Technai G2 Spirit TWIN. Manufacturer: FEI Company, The Netherlands. Intended Use: The instrument is intended to be used for basic biological and biomedical research pertaining to ultrastructural studies of cells and tissues; single particle analysis of proteins and macromolecules; and immunolocalization studies of proteins by means of electron dense probes. Application accepted by Commissioner of Customs: June 20,2007.

Dated: June 29, 2007.
Faye Robinson,
Director Statutory Import Programs Staff Import Administration.

[FR Doc. E7-13123 Filed 7-5-07; 8:45 am]

BILLING CODE 3510-DS-S